DEPARTMENT OF ENERGY

Federal Energy Regulatory Commission

[Docket No. RP00-336-002; Docket No. RP01-484-000; Docket No. RP01-486-000; Docket No. RP00-139-000

El Paso Natural Gas Co.; Aera Energy, LLC, et al., Complainants v. El Paso Natural Gas Co., Respondent; Texas, New Mexico and Arizona Shippers, Complainants v. El Paso Natural Gas Co., Respondent; KN Marketing, L.P., Complainant v. El Paso Natural Gas Co., Respondent; Notice of Procedures To Be Followed at Public Conference

April 8 , 2002.

On March 21, 2002, the Commission issued a Notice of Public Conference in this proceeding. The notice stated that the Commission Staff will hold a public conference on April 16, 2002 to receive comments from interested parties on Staff's recommended basis for assigning capacity and receipt points on the El Paso Natural Gas Company (El Paso) system. Staff presented its recommendation at the March 13, 2002 Commission meeting, and a description of Staff's proposal is posted on the Commission's Web site at http://www.ferc.gov/calendar/commissionmeetings/discussion_papers.htm. The March 21, 2002 notice asked that persons interested in participating in the conference inform the Commission of their interest by March 28, 2002.

The Commission received responses from the persons listed on Appendix A indicating an interest in participating in the conference. As we explained in the prior notice, the conference will consist of short presentations by panels of interested parties, including full requirements (FR) shippers, contract demand (CD) shippers, state representatives and El Paso. Based on the requests filed by persons interested in participating on the panels, the following agenda is established.

First, El Paso will make a brief presentation addressing the practical impact and feasibility of implementation of Staff's proposal on the El Paso system. This presentation will be followed by three panels. Two representatives from El Paso will remain at the table during the panels to address any questions.

The first panel will consist of representatives of the state commissions, i.e., the Arizona Corporation Commission and the California Public Utilities Commission.

The second panel will consist of participants with the interests of FR shippers. Specifically this panel will include one representative of each of the following companies: Arizona Electric, APS/Pinnacle, El Paso Electric, El Paso Municipal Group, Phelps Dodge, Public Service Company of New Mexico, Salt River, Southern Union, and Southwest Gas.

The third panel will consist of participants with interests of CD customers. Specifically, this panel will consist of representatives from each of the following companies or groups: Dynegy, MGI Supply, ONEOK, SoCal Edison, SoCal Gas, and the Southern California Generation Coalition. In addition, there will be three representatives from Indicated Shippers on this panel.

Each panel will have one hour to make its presentation, but individual presentations should be limited to approximately five minutes. Shorter presentations are encouraged where possible. After the presentations, time will be allotted for questions to the panelists.

Parties should submit the names of the individuals participating on the panels on or before Wednesday, April 10, 2002. This information should be submitted by e-mail to Robert.Petrocelli@ferc.gov with a copy to Ingrid.Olson@ferc.gov.

Any questions concerning the procedures or format of the conference, may be addressed to either Robert Petrocelli at (202)208-2085 or Ingrid Olson at (202)208-2015.

Magalie R. Salas,
Secretary.

Appendix A

Arizona Corporation Commission

Arizona Electric Power Cooperative, Inc. (Arizona Electric)

Arizona Public Service Company and Pinnacle West Energy Cooperation (APS/Pinnacle)

California Public Utilities Commission (CPUC)

Dynegy Marketing and Trade, PG&E National Energy Group, Trading and Marketing, L.L.C., Aquila Merchant Services, Inc., Coral Energy Resources, L.P., Sid Richardson Energy Services Company, Sid Richardson Pipeline, Ltd., and Richardson Energy Marketing, Conoco Gas and Power Marketing (Dynegy)

El Paso Electric Company (El Paso Electric)

El Paso Municipal Customer Group (El Paso Municipal)

El Paso Natural Gas Company (El Paso)

Indicated Shippers

MGI Supply, LTD. (MGI Supply)

ONEOK Energy Marketing and Trading (ONEOK)

Pacific Gas and Electric Company (PG&E)

Panda Gila River L.P. (Panda)

Phelps Dodge Corporation and ASARCO, Inc. (Phelps Dodge)

Public Service Company of New Mexico (PNM)

Salt River Project (Salt River)

Southern California Edison Company (SoCal Edison)

Southern California Gas Company (SoCal Gas)

Southern California Generation Coalition

Southern Union Gas Company (Southern Union)

Southwest Gas Corporation (Southwest Gas)

[FR Doc. 02-9039 Filed 4-12-02; 8:45 am]

BILLING CODE 6717-01-P